FEDERAL COMMUNICATIONS COMMISSION

47 CFR Parts 2 and 25

[IB Docket No. 06-123; FCC 07-76]

Establishment of Policies and Service Rules for the Broadcasting-Satellite Service

AGENCY: Federal Communications Commission.

ACTION: Proposed rules.

SUMMARY: The Federal Communications Commission initiates a Further Notice of Proposed Rulemaking (FNPRM) to address technical issues related to potential interference unique to the “reverse band” operating environment in the 17/24 GHz BSS. In the NPRM in this proceeding, the Commission sought comment on what measures were needed to address issues concerning reverse band operations. These included measures to mitigate against space-path interference between DBS and 17/24 GHz BSS satellites (space-path interference) and to protect 17/24 GHz BSS subscribers from DBS feeder links (ground-path interference). The record on these issues is insufficient to develop requirements. While most commenters advocate certain general approaches, we need more information to build on the generalities and derive specific requirements. Thus, we seek further comment on the issues concerning reverse band operations.

DATES: Comments are due on or before November 5, 2007 and reply comments are due on or before December 5, 2007. Public and agency comments on the Initial Paperwork Reduction Act of 1995 (IFRA) analysis are due October 22, 2007.

ADDRESSES: You may submit comments, identified by IB Docket No. 06-123, by any of the following methods:

• Federal eRulemaking Portal: http://www.regulations.gov. Follow the instructions for submitting comments.

• Federal Communications Commission's Web Site: http://www.fcc.gov/cgb/ecfs/. Follow the instructions for submitting comments.

• Mail: Office of the Secretary, Federal Communications Commission, 445 12th Street, SW., Washington, DC 20554.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Andrea Kelly (202) 418-7877, Satellite Division, International Bureau, Federal Communications Commission, Washington, DC 20554. For additional information concerning the information collection(s) contained in this document, contact Judith B. Herman at 202-418-0214, or via the Internet at Judith-B.Herman@fcc.gov.

SUPPLEMENTARY INFORMATION: This is a summary of the Commission's Further Notice of Proposed Rulemaking (FNPRM) in IB Docket No. 06-123, FCC 07-76, adopted May 2, 2007 and released on May 4, 2007. The full text of the FNPRM is available for public inspection and copying during regular business hours at the FCC Reference Information Center, Portals II, 445 12th Street, SW., Room CY-A257, Washington, DC 20554. The document may also be purchased from the Commission's duplicating contractor, Best Copy and Printing, Inc., Portals II, 445 12th Street, SW., Room CY-B402, Washington, DC 20554, telephone 202-488-5300, facsimile 202-488-5563, or via e-mail FCC@BCPIWEB.com.

Pursuant to the Regulatory Flexibility Act, the Commission has prepared an Initial Regulatory Flexibility Analysis (IRFA) of the possible significant economic impact on small entities by the rules adopted in the R&O and the proposals considered in the FNPRM. The text of the IRFA is set forth in Appendix H of the R&O and FNPRM. Written public comments are requested on the IRFA. Comments must be filed in accordance with the same filing deadlines for comments on the FNPRM, and they should have a separate and distinct heading designating them as responses to the IRFA.

In addition, the Commission, as part of its continuing effort to reduce paperwork burdens, invites the general public and the Office of Management and Budget (OMB) to comment on the information collection requirements contained in this document, as required by the Paperwork Reduction Act of 1995, Public Law 104-13. Public and agency comments are due October 22, 2007. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506(c)(4), we seek specific comment on how we might “further reduce the information collection burden for small business concerns with fewer than 25 employees.”

Paperwork Reduction Act Requirements

OMB Control Number: 3060-1097.

Title: Service Rules and Policies for the Broadcasting Satellite Service (BSS).

Form No.: Not Applicable.

Type of Review: On-going collection.

Respondents: Businesses or other for-profit entities.

Number of Respondents: 4 respondents; 24 responses.

Estimated Time Per Response: 10 hours.

Frequency of Response: On occasion and annual reporting requirements.

Estimated Total Annual Burden: 240 hours.

Estimated Total Annual Costs: $12,451,700.00.

Privacy Act Impact Assessment: Not Applicable.

Needs and Uses: The purpose of this information collection is to address the Paperwork Reduction Act (PRA) requirements proposed in the Commission's Notice of Proposed Rulemaking (FCC 06-90) to establish policies and service rules for the new Broadcasting Satellite Service under IB Docket No. 06-123. In this FNPRM, the Commission proposes three new information collection requirements applicable to Broadcasting Satellite Service licensees: (1) Annual reporting requirement on status of space station construction and anticipated launch dates, (2) milestone schedules and (3) performance bonds that are posted within 30 days of the grant of the license.

Without the information collected through the Commission's satellite licensing procedures, we would not be able to determine whether to permit applicants for satellite licenses to provide telecommunications services in the U.S. Therefore, we would be unable to fulfill our statutory responsibilities in accordance with the Communications Act of 1934, as amended; as well as the obligations imposed on parties to the World Trade Organization (WTO) Basic Telecom Agreement.

Summary of Further Notice of Proposed Rulemaking

1. Further Notice of Proposed Rulemaking: In the NPRM, the Commission sought comment on what measures were needed to address issues concerning reverse band operations. These included measures to mitigate against space-path interference between DBS and 17/24 GHz BSS satellites (space-path interference) and to protect 17/24 GHz BSS subscribers from DBS feeder links (ground-path interference). The record on these issues is insufficient to develop requirements. While most commenters advocate certain general approaches, we need more information to build on the generalities and derive specific requirements. Thus, we seek further comment on the issues concerning reverse band operations.

2. Ground-Path Interference in Reverse Band Operations. As discussed in the NPRM, ground path interference will occur when the signals from transmitting DBS feeder link earth stations operating in the 17.3-17.7 GHz band are detected at the receiving earth stations of 17/24 GHz BSS subscribers. This interference situation will be the most severe in areas surrounding the DBS feeder uplink stations. In addition, 17/24 GHz BSS operators who choose to co-locate their TT&C earth stations with DBS TT&C earth stations systems may experience difficulty in receiving the downlinked telemetry signal from the 17/24 GHz BSS spacecraft. Although at present there are a relatively small number of DBS feeder link and TT&C earth stations, the NPRM recognized that DBS feeder link earth stations that transmit in the Earth-to-space direction may increasingly locate in populated areas, thereby escalating the potential for interference into 17/24 GHz BSS subscriber antennas. The NPRM also anticipated that future entrants, such as short-spaced DBS systems, or non-U.S. DBS satellites serving the U.S. market, could result in the deployment of an even greater number of feeder link earth stations at multiple sites within the United States. The NPRM also raised concerns that the interference problem could be further exacerbated by the proliferation of small-diameter 17/24 GHz BSS subscriber receiving antennas with relatively poor off-axis discrimination properties.

3. Grandfathering Existing DBS Uplink Facilities. DIRECTV notes that, although DBS operators have recently sought authority for additional feeder link earth stations to uplink local broadcast signals from regional collection sites, the number of such sites is still very small. DIRECTV states, by way of illustration, that it operates DBS feeder links from only four sites across the country, and has no plans for additional regional sites. DIRECTV proposes that we “grandfather” licensed and operating DBS uplink facilities so that they may continue to operate in the manner in which they were designed in reliance on the rules then in effect. Accordingly, DIRECTV does not support off-axis EIRP density or other transmitting power limits for existing DBS feeder link antennas, or a requirement that such be shielded. EchoStar also advocates “grandfathering” of existing DBS feeder link earth stations, arguing that there are relatively few in number, and that the majority are located in less populated areas so that they pose little problem.

4. The Commission did not discuss this issue in the NPRM. Nevertheless, based on the record, we tentatively conclude that existing DBS feeder link earth stations should not be subject to new interference-mitigation requirements imposed as a result of this rulemaking. Accordingly, we intend to define an area around existing DBS feeder link earth stations that transmit in the 17.3-17.7 GHz band, within which 17/24 GHz BSS receiving earth stations cannot claim protection from the DBS feeder uplink transmissions. We discuss this issue in more detail below.

5. Protection Zones for Existing DBS Uplink Facilities. We propose to limit any protection zone to some area surrounding the specific geographic location and frequencies within the 17.3-17.7 GHz BSS band in which the DBS feeder link earth station licensee is already authorized to transmit. In addition, we agree that the feeder link operator should have some ability to upgrade facilities at existing sites, as long as the modification does not cause any increase in interference to 17/24 GHz BSS receiving antennas outside of the defined protection zone.

6. We seek comment on these tentative conclusions and on how a protection zone should be defined. One option is to define the boundary of the protection zone as a fixed distance away from the coordinates of the DBS Feeder Link Earth Station. DIRECTV presents an analysis demonstrating that, in the absence of shielding, the separation distance between a DBS feeder link earth station and a receiving 17/24 GHz subscriber antenna can become significant, i.e., on the order of 22 miles. EchoStar suggests that likely separation distances necessary to mitigate groundpath interference are on the order of 10 to 60 miles. SES Americom states that levels of interference could be harmful if the subscriber earth station is located within 20-30 km (12.5-18.6 miles) of the DBS feeder link station.

7. We note too that the DBS feeder link earth station's transmissions will not be equal in all directions, but will vary in part as a function of azimuth and elevation angle, and this picture may be complicated by the presence of multiple transmitting antennas at a particular site. In addition, we recognize that different areas of the country will have differing climate, rainfall and terrain conditions that will also mitigate groundpath interference. Accordingly, a second option is to employ a more detailed methodology that takes into account these site-specific characteristics, rather than impose a uniform radius around the earth station coordinates. Parties supporting this approach should explain in detail how exactly they would adjust for climate, rainfall, or terrain conditions, or any other variables that they believe should be reflected in the protection zone.

8. Thus, we invite comment on each of the two protection zone options set forth above: (1) To set the boundary at some fixed distance from the DBS feeder link earth station; or (2) to adjust that boundary to account for climate, terrain, or other considerations. We also seek comment on any other approaches we might adopt. Commenting parties should provide specific details on any such proposal.

9. Upgrades to Grandfathered Facilities. EchoStar urges the Commission to make clear that any protection is afforded to existing DBS uplink sites, and not just to currently licensed earth stations to protect the operator's ability to expand their existing uplink sites. EchoStar argues that this approach would promote efficiency by reducing the number of new geographically diverse sites. Specifically, EchoStar proposes that “grandfathering” would apply both to existing earth stations and to new earth stations located “within a mile of the easternmost, westernmost, northernmost and southernmost coordinates of existing earth stations in each site.” We seek comment on EchoStar's proposal to extend “grandfathered” status to any new earth stations located within a mile of an existing earth station site. Parties commenting on this proposal should explain in detail the reasons for their positions. Among other things, we invite comment on whether, and to what extent, adding new DBS feeder link earth stations within a mile of an existing DBS feeder link earth station is likely to increase the probability of harmful interference to 17/24 GHz BSS receivers.

10. As an alternative approach, we could define a pfd level at the boundary of the protection zone that would take into account the cumulative effect of any modified operations of the existing earth station site. If these modified operations do not exceed this pfd level, the modification would not be subject to the new coordination requirements. We seek comment on this approach. We also seek comment on what pfd level at the boundary might be suitable.

11. Coordination between DBS and 17/24 GHz BSS Operators. Commenters addressing the issue of new DBS feeder link earth stations recognize that to protect the interests of 17/24 GHz BSS consumers, these earth stations will need to be subject to some restrictions. As detailed below, we seek comment on developing a coordination zone and a coordination methodology.

12. Coordination Zone. In the NPRM, the Commission observed that its rules do not contain a procedure to coordinate co-frequency, DBS feeder link earth stations with BSS subscriber terminals. Consequently, the Commission proposed to establish “coordination zones” or, in other words, areas around DBS feeder link earth stations in which coordination would be required. The Commission proposed to define these areas based on the methodology outlined in Annex 3 of Appendix 7 of the ITU Radio Regulations.

13. The Commission further observed that it had used Appendix 7 as the basis of other coordination rules it had adopted. The Commission also noted, however, that Table 9b of Appendix 7, which includes data needed for determining the coordination zone for services in several frequency bands, does not include some data needed for determining the coordination zone for services in the 17.3-17.8 GHz band. Accordingly, the Commission invited parties to recommend data for a table based on Table 9b that would allow operators to calculate coordination areas for the 17.3-17.8 GHz band in a way comparable to the method operators in other frequency bands use Table 9b to determine their coordination distances.

14. Consistent with our proposal in the NPRM, we tentatively conclude that use of the procedure in Table 9b to establish the coordination zone for DBS feeder link earth stations and BSS subscriber terminals is appropriate. In this FNPRM, we seek comment on the specific values for Table 9b as set forth below. We seek comment on the appropriateness of this approach. Parties proposing an alternative set of values should provide a detailed justification for those values.

Table 9b.—Parameters Required for the Determination of Coordination Distance for a Transmitting Earth Station in Bands Shared Bidirectionally With Receiving Earth Stations
Parameter(s) | Value | Description
Orbit |  | GSO | Orbit in which the space service in which receiving earth station operates (GSO or NGSO).
Modulation at receiving earth station |  | N | Analog or digital.
Receiving earth station interference parameters and criteria | p0 (%) | 0.003 | Percentage of the time during which interference from all sources may exceed the threshold value.
| N | 2 | Number of equivalent, equal level, equal probability entries of interference, assumed to be uncorrelated for small percentages of the time.
| p (%) | 0.0015 | Percentage of the time during which the interference from one source may exceed the permissible interference power value; since the entries of interference are not likely to occur simultaneously, p=p0/n.
| NL (dB) | 1 | Link noise contribution.
| Ms (dB) | 5 | Link performance margin.
| W (dB) | 0 | A thermal noise equivalence factor for interfering emissions in the reference bandwidth; it is positive when the interfering emissions would cause more degradation than thermal noise.
Receiving earth station parameters | Gm (dBi) | 36 | On-axis gain of the receive earth station antenna.
| Gr | 10 | Horizon antenna gain for the receive earth station.
| εmin | 5° | Minimum elevation angle of operation in degrees.
| Te (K) | 300K | The thermal noise temperature of the receiving system at the terminal of the receiving antenna. See 2.1 of Annex 7 to Appendix 7 of the ITU Radio Regulations which provides a default value for two earth stations operating in opposite directions of transmission at frequencies greater than 17/24 GHz.
Reference Bandwidth | B (Hz) | 1.0×10⁶ | Reference bandwidth (Hz), i.e., the bandwidth in the receiving station that is subject to the interference and over which the power of the interfering emission can be averaged.
Permissible interference power | Pr(p) (dBW) in B | −139.5 | Permissible interference power of the interfering emission (dBW) in the reference bandwidth to be exceeded no more than p÷ of the time at the receiving antenna terminal of a station subject to interference, from a single source of interference, using the general formula: Pr(p) = 10 log (k Te B) + NL + 10 log (10 Ms/10 −1)−W.

15. DIRECTV proposes that the Commission establish a coordination zone around any new DBS feeder uplink earth stations and that within this zone, a new the DBS operator would be required to coordinate its operations with 17/24 GHz BSS subscriber earth stations. DIRECTV asserts further that this process would be greatly facilitated if new DBS uplink facilities were required to operate with strict pfd limits on transmissions toward the horizon and/or to employ shielding. Although DIRECTV suggests that this coordination zone could be relatively large (e.g., 10 km) it proposes no specific methodology for how such a zone might be defined, nor does it propose pfd limits in the direction of the horizon.

16. However, EchoStar proposes that, rather than defining a coordination zone, the Commission should define an area around any new DBS feeder link earth station within which 17/24 GHz BSS earth stations would become, in effect, secondary to the DBS operation and thus would required to accept all interference. For this reason, EchoStar contends that the methodology of Appendix 7 is not likely to determine particularly realistic separation distances, as it is intended to calculate threshold separations to initiate coordination. EchoStar also contends that there are several other methodologies that the Commission might consider for determining the spacing between DBS feeder link stations and 17/24 GHz BSS earth stations. Specifically, EchoStar suggests that ITU-R Recommendation P.452 defines a general propagation model that could be applied, and ITU-R Recommendation S.1712, although intended for the 14 GHz band, might provide additional useful methodologies that could be extrapolated to the 17 GHz band. In addition, EchoStar proposes that the choice of methodology for computing the separation distance should be left to the operators concerned.

17. Accordingly, we seek comment on the above proposals, and which, if any we should adopt to facilitate reverse-band operations in the 17 GHz band. As an initial matter, we request interested parties to discuss whether the Commission should adopt a coordination zone of any type, or whether the defined zone should be an area in which the 17/24 GHz BSS is secondary to DBS as EchoStar recommends. We invite interested parties to discuss whether they prefer to define such a zone using a methodology based on Appendix 7, Annex 3 as proposed in the NPRM, or based on one of the ITU recommendations suggested by EchoStar (i.e., ITU-R Recommendation P.452 or S.1712). We request comment on all these proposals, and invite commenters to propose different coordination or separation distances, provided that they can provide adequate justification on the record for their proposals.

18. In addition, we seek comment on whether we should permit operators to determine jointly among themselves the choice of methodology to calculate the corresponding separation distance as EchoStar suggests. We also seek comment on how, under this approach, established 17/24 GHz BSS subscriber antennas might be protected from interference from newer DBS feeder link operations seeking to locate nearby. Such parties should explain in detail why they support their preferred methodology, and why they believe their methodology is superior to other options. Finally, we invite parties to recommend the appropriate parameter values necessary to employ the method they support.

19. Coordination Methodology. We invite comment here on the methodology to be used within that zone to coordinate DBS feeder links and 17/24 GHz BSS earth stations, should the Commission adopt a coordination zone as discussed above. The NPRM envisioned that both DBS operators and 17/24 GHz BSS operators will be deploying new earth stations over time, so that new stations of one service will continually be established among existing stations from the other. The Commission made a similar observation in the MVDDS Second R&O, in which it addressed a frequency sharing situation that presented ground path interference issues and gradual build-out of interspersed earth stations similar to those we envision in the 17.3-17.7 GHz band.

20. In the MVDDS Second R&O, the Commission concluded that careful MVDDS system design and the use of various mitigation techniques could achieve successful sharing of the 12 GHz frequency band by both services. To accomplish this goal, the Commission adopted, among other things, a coordination procedure that requires that a MVDDS operator entering a market where DBS receivers are already established must satisfy certain requirements in order to protect these customers. In addition, a mechanism is established for information exchange between the operators of both services, in particular to take into account recently acquired DBS customers. The NPRM sought comment on whether we should adopt a similar approach to sharing between DBS feeder link earth stations and 17/24 GHz BSS receiving earth stations. We seek further comment here. Specifically we ask whether we should adopt service rules similar to those in § 25.203(c), requiring all applications for new (non-grandfathered) DBS feeder link earth stations or new 17 GHz transmitting TT&C stations to complete prior frequency coordination with existing and planned 17/24 GHz BSS receiving stations.

21. The Commission recognizes that requiring 17/24 GHz BSS operators to make available a list of their subscriber earth stations raises issues of sensitive customer information, particularly if the DBS feeder link applicant is also a competitor. Accordingly, we tentatively conclude that use of a neutral, third-party frequency coordinator is appropriate to assuage such concerns. Thus, we propose that, prior to filing an application with the Commission, a DBS operator planning a new feeder link earth station or 17 GHz transmitting TT&C station must provide certain specified technical information to a qualified frequency coordinator. The frequency coordinator would make this technical information available to all licensed 17/24 GHz operators. Interested parties could obtain both a list of potentially-affected and active 17/24 GHz BSS customer locations that are within a defined coordination area, as well as a list of potentially-affected 17/24 GHz TT&C earth stations for which applications are on file with the Commission within the defined coordination area. The 17/24 GHz BSS operators would be required to provide these lists within 30 days upon receipt of the new DBS feeder link earth station technical information and the notice. A DBS operator would be allowed to file an application with the Commission for a new DBS feeder link or TT&C transmitting earth station within 6 months of successfully completing coordination with all stations on these lists. If the Commission grants a license for the newly proposed 17 GHz transmitting station, any 17/24 GHz receiving earth station not on these lists would be unable to claim protection from this new DBS feeder link earth station. We seek comment on this proposal, and on the method that should be employed to calculate such a coordination area.

22. We also seek comment on the types of technical information DBS feeder link earth station operators should make available for the purposes of earth station coordination with 17/24 GHz BSS operators. In the case of satellite and terrestrial earth station coordination, Commission rules now require that all transmitting satellite earth station applicants submit an interference analysis as required by § 25.203 of the Commission's rules, 47 CFR 25.203(c)(2). § 25.203(c)(2) requires that the earth station applicant provide each terrestrial station licensee with specific technical details. Similarly, we propose that DBS feeder link earth station applicants provide the following information to the qualified frequency coordinator:

i. The geographical coordinates of the proposed earth station antenna(s);

ii. Proposed operating frequency band(s) and emission(s);

iii. Antenna diameter (meters);

iv. Antenna center height above ground and ground elevation above mean sea level;

v. Antenna gain pattern(s) in the plane of the main beam;

vi. Longitude range of geostationary satellite orbit (GSO) satellites at which an antenna may be pointed, for proposed earth station antenna(s) accessing GSO satellites;

vii. Horizon elevation plot;

viii. Antenna horizon gain plot(s) determined in accordance with the procedure in section 2.1 of Annex 5 to Appendix 7 of the ITU Radio Regulations;

ix. Minimum elevation angle;

x. Maximum equivalent isotropically radiated power (EIRP) density in the main beam in any MHz band;

xi. Maximum available RF transmit power density in any 1 MHz band at the input terminals of the antenna(s);

xii. A plot of the coordination distance contour(s) and rain scatter coordination distance contour(s) as determined by Table 2 of section 3 to Appendix 7.

23. We ask what reference bandwidths would be appropriate in items (x) and (xi). In addition, we seek comment on whether the parameters listed here or other technical information would be appropriate to provide in order to facilitate coordination between new DBS feeder link earth stations and receiving 17/24 GHz BSS antennas.

24. Other Measures to Protect 17/24 GHz BSS Operations. In addition to the protection zone and coordination requirements proposed above, some commenters assert that further measures are necessary to protect 17/24 GHz BSS earth stations from harmful interference from DBS feeder link earth stations. Those measures include: (1) Limits on DBS feeder link earth station EIRP toward the horizon; (2) placement of new DBS feeder link facilities in low-population density areas; (3) technical showing requirements for co-located DBS and 17/24 GHz BSS earth stations; and (4) antenna shielding requirements. These proposed approaches are not necessarily mutually exclusive, and it is entirely possible that we might employ several methods in combination with each other, as well as adopting the protection zone and coordination requirements discussed above. Moreover, as DIRECTV correctly notes, a decision to employ one approach may influence the extent to which we simultaneously apply another. However, no commenter has been specific in its proposals, nor provided a comprehensive approach necessary to definitively address the issue. Consequently, we do not believe that the record is sufficiently developed so that we may determine whether to adopt requirements at this time.

25. Accordingly, we invite further comment on each of the additional measures suggested by commenters. In particular, commenters supporting any of these proposals should explain in detail why that additional measure would be necessary to protect 17/24 GHz BSS earth stations from harmful interference, in the event that we adopt coordination procedures of the kind discussed above. Moreover, such commenters should discuss whether they support adoption of all the additional measures discussed here, or whether some of the additional measures would provide adequate protection from harmful interference.

26. Power Level Limits. In the NPRM, the Commission noted that § 25.204(b) of the Commission's rules places limits on earth station EIRP in bands above 15 GHz shared coequally with terrestrial radiocommunication services, in order to facilitate sharing with these services. The Commission sought comment on whether the Commission should extend this requirement to new DBS feeder link earth stations operating in the entire 17.3-17.7 GHz band. The Commission also asked whether the EIRP density limits in § 25.204(b) through (e) would be sufficient to protect 17/24 GHz BSS earth stations, or if DBS feeder link earth stations should meet some more stringent requirements. We seek further comment on these questions.

27. Under EchoStar's power limit proposal, new DBS earth stations would be constrained only in terms of EIRP density toward the horizon. We invite comment on whether any such limit would be necessary if we adopt a coordination procedure as discussed above. Alternatively, we ask whether the adoption of EIRP density limits toward the horizon would obviate the need for coordination procedures. Advocates of EIRP density limits should include a specific limit in their discussions, and advocates of both approaches should provide adequate justification for their recommendations.

28. Restrictions on Placement of New DBS Earth Stations. DIRECTV and EchoStar advocate requiring DBS feeder link earth station operators to locate their earth stations only in areas of low population density. Although neither define precisely how such sparely populated locations would be determined, DIRECTV notes that counties with populations less that ten people per square mile comprise a significant portion of the contiguous United States. We seek comment on this approach, either alone, or in conjunction with other proposals, and ask how the Commission should determine what constitutes a low-population density site. We also request parties to explain how DBS feeder link operators would be able to protect 17/24 GHz BSS consumer earth stations that are already deployed in these areas.

29. EchoStar makes its proposal to restrict new DBS feeder link earth stations to low population-density areas in conjunction with its proposal to require those earth stations to meet strict off-axis EIRP density limits towards the horizon. Presumably however, even areas of low population density may contain 17/24 GHz BSS subscribers. Thus, although this approach might be applied to new DBS feeder uplink stations locating in areas yet unoccupied by 17/24 GHz BSS subscriber earth stations, EchoStar does not make clear how subscriber terminals would be protected if the DBS applicant sought to locate in an area where 17/24 GHz BSS consumer earth stations were already deployed. We request commenters to address this issue.

30. Technical Showing Requirement for Co-Located Earth Stations. The NPRM also addressed groundpath interference that may occur between transmitting DBS feeder uplinks and the receiving telemetry stations of 17/24 GHz BSS systems that choose to locate their TT&C facilities at or near to existing DBS feeder uplink sites. The Commission recognized that choice of facility site is a system design parameter that is under the control of the operator, and does not necessarily require a Commission action to remedy. Moreover, given the large financial investment required to launch and operate a satellite, we believe that 17/24 GHz BSS operators have strong incentive to make correct technical decisions with regard to their choice of TT&C facility sites and equipment design. However, the NPRM also recognized that interference into TT&C systems can present a serious problem due to the potential for loss of satellite control, and sought comment on whether the Commission should adopt requirements to guard against such scenarios.

31. Specifically, the Commission proposed to require earth station applicants planning to co-locate their 17/24 GHz BSS TT&C stations with DBS feeder link earth stations to make a technical showing to the Commission demonstrating their ability to maintain sufficient margin in their telemetry links in the presence of the interfering DBS signal. Similarly, the Commission proposed to require DBS feeder link earth station applicants planning to co-locate with their 17/24 GHz BSS telemetry earth stations to make an analogous technical showing to the Commission. The Commission sought comment on these proposals and asked what parameters would be appropriate in such a showing. It also asked whether it should preclude co-location of 17 GHz BSS TT&C and DBS feeder link facilities altogether, or whether it should require some minimum separation between such facilities.

32. DIRECTV responds that, with careful planning, it should be possible to coordinate the operations of these two services, even to the point where the facilities can be co-located. Accordingly, DIRECTV does not believe that the Commission should limit operator flexibility by precluding such co-location or by requiring some minimum separation distance. Rather, DIRECTV supports the Commission's proposal that operators seeking to co-locate such facilities should be required to make a technical showing demonstrating their ability to maintain sufficient margin in the 17/24 GHz BSS telemetry links in the presence of the interfering DBS signal. DIRECTV asserts that this will enable those operators who want to capture the efficiencies of co-location to do so, provided they can prove to the Commission that receipt of critical 17/24 GHz BSS telemetry data will not be subject to disruption. EchoStar also believes that such interference can be avoided by careful frequency planning of the 17 GHz uplink and downlink signals, and believes that this frequency planning can be conducted by the operator alone, within its own earth station complex. Accordingly, we will restate the proposal to require a technical showing to the Commission in the event of co-location of DBS feeder link and 17/24 GHz BSS telemetry earth stations, and seek any further comment on the issue.

33. Shielding. We also seek comment on whether we should impose any additional requirements on either DBS feeder link earth station operators or on 17/24 GHz BSS operators in order to mitigate interference into 17/24 GHz BSS subscriber receiving antennas. We ask whether, as most commenters suggest, a requirement to employ shielding should be adopted in conjunction with any of the approaches discussed above, and if so what form such a requirement might take.

34. Space Path Interference in Reverse Band Operations. The NPRM sought comment on how best to manage the problem of space path interference arising when the transmitted signals from 17/24 GHz BSS satellites are received by the feeder link receivers on satellites operating in the DBS service. In addition, the NPRM sought comment on the particular instance where applicants sought to locate within the same cluster as co-frequency receiving DBS satellites and asked whether this was feasible at all, and if so what measures might be required to facilitate such co-clustering. The Commission also sought comment on the more general question of locating 17/24 GHz BSS satellites at close distances to co-frequency DBS satellites and asked what measures, including a minimum orbital separation requirement, off-axis EIRP limits, antenna discrimination requirements, or other requirements might be adopted to protect DBS receiving antennas from unacceptable interference. Finally, the NPRM sought comment on the particular problem of interference to DBS TT&C transmissions in the 17 GHz band that could result in loss of satellite control. The Commission proposed to require 17/24 GHz BSS space station applicants seeking to co-locate with DBS satellites to make a technical showing demonstrating their ability to sufficiently minimize interference such that adequate margin is maintained in the DBS telecommand links. An analogous requirement was proposed for any future DBS applicant seeking to co-locate with 17/24 BSS satellites to make a similar technical showing demonstrating its ability to maintain sufficient TT&C link margin.

35. Commenters addressing these issues all realize the potential for space path interference between 17/24 GHz BSS and DBS satellites, but generally maintain that co-location is feasible at relatively small orbital separations, typically on the order of a few tenths of a degree. EchoStar asserts that a separation of 0.4 degrees is sufficient, however only if the DBS and 17/24 BSS satellites are operated by the same licensee. EchoStar argues that the risk of interference in such situations is most severe, and is best avoided by assigning space-to-Earth frequencies at that location only to the 17/24 GHz BSS operator that uses these same frequencies in the Earth-to-space direction for its DBS feeder link operations. DIRECTV also believes that co-frequency operation may be possible at small orbital separations, but that this will depend upon a number of factors including the gain toward the GSO of both transmitting and receiving satellites as well as the desired protection level of the DBS system. DIRECTV also believes that given the many uncertainties involved, it is best to permit only operators who control transmissions in both directions at a given location to locate in close proximity as they can best “self coordinate” their operations. DIRECTV also suggest that the Commission may want to consider a strict off-axis gain specification for 17/24 GHz BSS satellites wishing to locate within a certain distance of a DBS satellite.

36. SES Americom and Intelsat oppose the idea that 17/24 GHz BSS satellites seeking to operate at the same frequency and location as DBS satellites should only be licensed to the corresponding DBS licensee, arguing that this restriction is unnecessary and unfairly favors incumbent DBS operators. SES Americom believes that spacepath interference issues can be resolved through the use of offset orbital locations and coordination between operators. Similarly, Intelsat believes that a four-degree orbital spacing plan with small offsets in combination with coordination between operators will be sufficient to mitigate spacepath interference issues between closely spaced 17/24 GHz BSS and DBS satellites. In section III. D. of this Order, we require 17/24 GHz BSS satellite licensees to design their satellites to be capable of operating in a four-degree spacing environment. We will license satellites in this band only if they comply with the orbital spacing rules we adopt in this Order.

37. EchoStar also proposes that the spacepath interference into DBS receivers can be managed by establishing a pfd value at the victim (i.e., DBS) receiver above which coordination is required. Specifically, EchoStar proposes a pfd threshold level at the victim satellite receiver of -93 dBW/m²/24 MHz and derives this value from the ITU 6% ΔT/T requirement used to determine the need for coordination between Administrations, contained in Appendix 30A of the Radio Regulations. EchoStar also proposes that the Commission should require a minimum separation between DBS and 17/24 GHz BSS satellites of at least 0.2-0.3 degrees, although these parameters might be relaxed in the event of agreement among all affected parties.

38. We concur with EchoStar's proposed approach to managing spacepath interference between 17/24 GHz BSS and DBS satellites by requiring coordination when pfd values are exceeded at the DBS satellite receiver. This approach is consistent with the method used by the ITU, See Annex 4 of Appendix 30A of the ITU Radio Regulations, and has proved workable for international coordination of satellite systems. However, as EchoStar notes, its proposed pfd value depends in part on certain assumptions about the DBS off-axis receiving antenna gain and may not afford sufficient to protection to all systems, particularly as DBS off-axis antenna gain patterns are not necessarily well known. Accordingly, in order to protect receiving DBS satellites from unacceptable levels of interference, we propose to adopt an off-axis pfd coordination trigger of -93 dBW/m²/24 MHz at the DBS receiving antenna. Coordination with affected co-frequency licensees, both existing and planned, would be required in the event that the 17/24 GHz BSS satellite exceeds this level at the DBS receiving antenna; coordination would not be required in cases where no frequency overlap occurs. We seek comment on this proposal and ask whether it is sufficient to protect existing DBS operations from interference, or whether some other approach or additional requirement might better protect DBS receiving antennas from unwanted spacepath interference. We also ask how such a requirement might apply to future DBS operations that might be affected, including in particular any replacement satellites.

39. We also seek comment on the particular information that 17/24 GHz BSS applicants should be required to submit to the Commission. Clearly, reliable information concerning the off-axis transmitting antenna gain of the 17/24 GHz BSS satellite will need to be made available. Presumably this information will need to include all frequencies in the 17.3-17.7(8) GHz range so that any future DBS applicant will also have sufficient information to protect its operations from unwanted interference. We seek comment on what form this information should take (i.e., measured data, charts, graphs). We ask whether off-axis gain in the plane of the GSO is sufficient and over what angular range it should be provided (e.g., ±30°, ±45° with respect to the plane passing through the x- and y-axes of the satellite.)

40. In its reply comments EchoStar also proposes the Commission adopt a minimum orbital separation between 17/24 GHz BSS and DBS satellites of 0.2-0.3 degrees. SES Americom also believes that an orbital offset of at least 0.2-0.3 degrees is necessary for co-frequency operation of DBS and 17/24 GHz BSS satellites. DIRECTV however indicates that a minimum orbital separation value as small as 0.05 degrees would be sufficient to permit co-frequency operation, provided modest care in satellite antenna design is employed. We seek comment on EchoStar's proposal to require a minimum orbital separation between co-frequency operation of DBS and 17/24 GHz BSS satellites, and we ask what separation value is appropriate should we adopt such a requirement. We also seek comment on whether such a requirement is necessary should we adopt the pfd threshold and coordination requirements discussed above, particularly if, as EchoStar suggests, this separation value might be relaxed by agreement among the affected operators.

41. Finally, the NPRM sought comment on our proposal to protect DBS TT&C operations, particularly in recognition of the potential for loss of satellite control. DIRECTV comments on this proposal, asserting that the Commission should allow co-location of 17/24 GHz BSS and DBS space stations only if the affected DBS operator gives its consent, and only if the 17/24 GHz BSS applicant demonstrates its ability to maintain sufficient margin in the DBS telecommand links in the presence of the interfering 17/24 GHz BSS signal. We believe this proposal has merit, for both 17/24 GHz BSS operators seeking to locate in close proximity to DBS satellites, and also in the case where DBS operators may seek to locate in close proximity to established 17/24 BSS GHz satellites. Accordingly, we propose to adopt a requirement that a 17/24 GHz BSS applicant proposing to locate its satellite in the vicinity of a DBS space station make a technical showing to the Commission demonstrating its ability to sufficiently minimize interference into the DBS systems, such that adequate margin is maintained in the DBS telecommand links in the presence of the interfering BSS signal. Similarly we will require that a DBS applicant proposing to locate its satellite in the vicinity of existing 17/24 GHz BSS space station make a technical showing to the Commission demonstrating its ability to maintain sufficient margin in its telecommand links in the presence of the interfering BSS signal. We seek comment on these proposals. We ask under what circumstances such a technical showing should be required, e.g., co-location at less than some minimum distance, or on the basis of a threshold pfd value. We seek comment on whether the threshold pfd level of -93 dBW/m²/MHz proposed above is also a suitable coordination trigger for DBS telecommand links, or whether some other value might be more appropriate. We also seek comment on the maximum orbital separation distance at which would be appropriate to require such a technical showing.

42. SES Americom also commented on 17/24 GHz BSS interference into DBS telecommand links, stating that issues relating to space path interference can be resolved through offset of orbital locations and coordination between the involved operators with respect to TT&C frequencies. SES Americom also stated that it believes that a frequency separation of as little as 500 kHz is adequate to prevent interference from the beacon of a 17/24 GHz BSS satellite into the command carrier of a DBS space station. We seek comment on whether some minimum frequency separation is required between the signals transmitted by a 17/24 GHz BSS space station and the telecommand frequencies of DBS space station located in close proximity to the 17/24 GHz BSS space station, or a combination of frequency separation and pfd limits, and what the appropriate parameters would be.

43. Conclusion. We adopt a Further Notice of Proposed Rulemaking to seek comment on technical issues related to reverse band operations to address potential interference concerns.

Ex Parte Presentations

44. This proceeding shall be treated as a “permit-but-disclose” proceeding in accordance with the Commission's ex parte rules. Persons making oral ex parte presentations are reminded that memoranda summarizing the presentations must contain summaries of the substance of the presentations and not merely a listing of the subjects discussed. More than a one- or two-sentence description of the views and arguments presented is generally required. Other rules pertaining to oral and written presentations are set forth in § 1.1206(b) of the Commission's rules as well.

Paperwork Reduction Act

45. The actions contained herein have been analyzed with respect to the Paperwork Reduction Act of 1995 at the initiation of the Notice of Proposed Rulemaking in this proceeding, and we have previously received approval of the associated information collection requirements from the Office of Management and Budget (OMB) under OMB Control No. 3060-1097. The Report and Order and Further Notice of Proposed Rulemaking does not contain any new or modified “information collection burden for small business concerns with fewer than 25 employees,” pursuant to the Small Business Paperwork Relief Act of 2002, Public Law 107-198, see 44 U.S.C. 3506(c)(4).

Initial Regulatory Flexibility Analysis

46. As required by the Regulatory Flexibility Act of 1980, as amended (RFA), the Commission has prepared this present Initial Regulatory Flexibility Analysis (IRFA) of the possible significant economic impact on a substantial number of small entities by the policies and rules proposed in this item, the Establishment of Policies and Service Rules for the Broadcasting-Satellite Service at the 17.3-17.7 GHz Frequency Band and at the 17.7-17.8 GHz Frequency Band Internationally, and at the 24.75-25.25 GHz Frequency Band for Fixed Satellite Services Providing Feeder Links to the Broadcasting-Satellite Service and for the Broadcasting Satellite Service Operating Bi-Directionally in the 17.3-17.8 GHz Frequency Band, Report and Order and Further Notice of Proposed Rulemaking (R&O and FNPRM). Written public comments are requested on this IRFA. Comments must be identified as responses to the IRFA and must be filed by the deadlines for comments on the FNPRM provided in paragraph 194 of this NPRM. The Commission will send a copy of the FNPRM, including this IRFA, to the Chief Counsel for Advocacy of the Small Business Administration (SBA). In addition, the FNPRM and IRFA (or summaries thereof) will be published in the Federal Register.

Need for, and Objectives of, the Proposed Rules

47. The objective of the proposed rules is to address potential interference scenarios which arise in the reverse band operating environment. In the NPRM, we sought comment on what measures were needed to address issues concerning reverse band operations. These included measures to mitigate against space-path interference between DBS and 17/24 GHz BSS satellites (space-path interference) and to protect 17/24 GHz BSS subscribers from DBS feeder links (ground-path interference). The record on these issues is insufficient to develop requirements. While most commenters advocate certain general approaches, we need more information to build on the generalities and derive specific requirements. Thus, we seek further comment on the issues concerning reverse band operations.

48. The two types of interference which might occur in the reverse band operating environment are ground path interference and space path interference. Ground path interference will occur when the signals from transmitting DBS feeder link earth stations operating the 17.3-17.7 GHz band are detected at the receiving earth stations of 17/24 GHz BSS subscribers. This interference will be the most severe in areas surrounding the DBS feeder uplink stations. Space path interference will occur when the transmitted signals from 17/24 GHz BSS satellites are received by the feeder link receivers on satellites operating in the DBS service.

49. In order to mitigate against ground path and space path interference, we are proposing a variety of measures, such as the establishment of protection zones, coordination zones, power level limits, geographic restrictions of earth stations, informational requirements for coordination, and required technical showings.

Legal Basis

50. This NPRM is adopted pursuant to sections 1, 4(i), 7(a), 301, 303(c), 303(f), 303(g), 303(r), 303(y), and 308 of the Communications Act of 1934, as amended, 47 U.S.C. 151, 154(i), 154(j), 157(a), 301, 303(c), 303(f), 303(g), 303(r), 303(y), 308.

Description and Estimate of the Number of Small Entities to Which the Proposals Will Apply

51. The RFA directs agencies to provide a description of and, where feasible, an estimate of the number of small entities that may be affected by the rules adopted herein. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). Below, we further describe and estimate the number of small entity licensees that may be affected by the adopted rules.

52. Satellite Telecommunications. The SBA has developed a small business size standard for the two broad census categories of “Satellite Telecommunications” and “Other Telecommunications.” Under both categories, a business is considered small if it has $13.5 million or less in annual receipts. The category of Satellite Telecommunications “comprises establishments primarily engaged in providing point-to-point telecommunications services to other establishments in the telecommunications and broadcasting industries by forwarding and receiving communications signals via a system of satellites or reselling satellite telecommunications.” For this category, Census Bureau data for 2002 show that there were a total of 371 firms that operated for the entire year. Of this total, 307 firms had annual receipts of under $10 million, and 26 firms had receipts of $10 million to $24,999,999. Consequently, we estimate that the majority of Satellite Telecommunications firms are small entities that might be affected by our action.

53. The category of Other Telecommunications “comprises establishments primarily engaged in (1) providing specialized telecommunications applications, such as satellite tracking, communications telemetry, and radar station operations; or (2) providing satellite terminal stations and associated facilities operationally connected with one or more terrestrial communications systems and capable of transmitting telecommunications to or receiving telecommunications from satellite systems.” For this category, Census Bureau data for 2002 show that there were a total of 332 firms that operated for the entire year. Of this total, 259 firms had annual receipts of under $10 million and 15 firms had annual receipts of $10 million to $24,999,999. Consequently, we estimate that the majority of Other Telecommunications firms are small entities that might be affected by our action.

54. Space Stations (Geostationary). Commission records reveal that there are 44 space station licensees. We do not request nor collect annual revenue information concerning such licensees, and thus are unable to estimate the number of geostationary space station licensees that would constitute a small business under the SBA definition cited above, or apply any rules providing special consideration for geostationary space station licensees that are small businesses.

55. 17 GHz Transmitting Earth Stations. Currently there are approximately 47 operational earth stations in the 17.3-17.7 GHz bands. The Commission does not request or collect annual revenue information, and thus is unable to estimate the number of earth stations that would constitute a small business under the SBA definition.

56. Cellular and Other Wireless Telecommunications. The SBA has developed a small business size standard for Cellular and Other Wireless Telecommunications, which consists of all such firms having 1,500 or fewer employees. According to Census Bureau data for 2002, in this category there were 1,397 firms that operated for the entire year. Of this total, 1,378 firms had employment of 999 or fewer employees, and 19 firms had employment of 1,000 employees or more. Thus, under this category and size standard, the majority of firms can be considered small.

Description of Projected Reporting, Recordkeeping, and Other Compliance Requirements

57. In this Further Notice of Proposed Rulemaking, the Commission invites comment on various issues related to the mitigation of harmful interference in the reverse band operating environment, which is unique to operation in the 17/24 GHz BSS. None of the proposed methods are intended to increase the projected reporting, recordkeeping, and other compliance requirements.

Steps Taken To Minimize Significant Economic Impact on Small Entities, and Significant Alternatives Considered

58. The RFA requires that, to the extent consistent with the objectives of applicable statutes, the analysis shall discuss significant alternatives such as: (1) The establishment of differing compliance or reporting requirements or timetables that take into account the resources available to small entities; (2) the clarification, consolidation, or simplification of compliance and reporting requirements under the rule for small entities; (3) the use of performance, rather than design, standards; and (4) an exemption from coverage of the rule, or any part thereof, for small entities.

59. The measures proposed are necessary to mitigate against space-path interference between DBS and 17/24 GHz BSS satellites (space-path interference) and to protect 17/24 GHz BSS subscribers from DBS feeder links (ground-path interference). The measures include the establishment of protection zones, coordination zones, power level limits, geographic restrictions of earth stations, and technical showings. We believe that these proposals are the most equitable solutions to the potential interference problems posed by operation in the 17/24 GHz BSS. We seek comment on viable alternatives to these rules or their reporting requirements that would lessen the economic impact on small entities. We also seek comment on the establishment of differing compliance or reporting requirements that take into account the resources available to small entities.

Federal Rules That May Duplicate, Overlap, or Conflict With the Proposed Rules

60. None.

Comment Filing Procedures

61. Pursuant to §§ 1.415 and 1.419 of the Commission's rules, 47 CFR 1.415, 1.419, interested parties may file comments in response to this FNPRM no later than on or before 75 days after Federal Register publication. Reply comments to these comments may be filed no later than on or before 105 days after Federal Register publication. All pleadings are to reference IB Docket No. 06-123. Comments may be filed using the Commission's Electronic Comment Filing System (ECFS) or by filing paper copies. Parties are strongly encouraged to file electronically. See Electronic Filing of Documents in Rulemaking Proceedings, 63 FR 24121 (1998).

62. Comments filed through the ECFS can be sent as an electronic file via the Internet to http://www.fcc/gov/e-file/ecfs.html. Parties should transmit one copy of their comments to the docket in the caption of this rulemaking. In completing the transmittal screen, commenters should include their full name, U.S. Postal Service mailing address, and the applicable docket or rulemaking number. Parties may also submit an electronic comment by Internet e-mail. To get filing instructions for e-mail comments, commenters should send an e-mail to ecfs@fcc.gov and should include the following words in the body of the message, “get form <your e-mail address>.” A sample form and directions will be sent in reply.

63. Parties choosing to file by paper must file an original and four copies of each filing in IB Docket No. 06-123. Filings can be sent by hand or messenger delivery, by commercial overnight courier, or by first-class or overnight U.S. Postal Service mail (although we continue to experience delays in receiving U.S. Postal Service mail). If more than one docket or rulemaking number appears in the caption of this proceeding, commenters must submit two additional copies for each additional docket or rulemaking number. The Commission's mail contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

64. Comments submitted on diskette should be on a 3.5 inch diskette formatted in an IBM-compatible format using Word for Windows or compatible software. The diskette should be clearly labeled with the commenter's name, proceeding (including the docket number, in this case, IB Docket No. 06-123), type of pleading (comment or reply comment), date of submission, and the name of the electronic file on the diskette. The label should also include the following phrase “Disk Copy—Not an Original.” Each diskette should contain only one party's pleadings, preferably in a single electronic file.

65. All parties must file one copy of each pleading electronically or by paper to each of the following: (1) The Commission's duplicating contractor, Best Copy and Printing, Inc., 445 12th Street, SW., Room CY-B402, Washington, DC 20554, telephone (202) 488-5300, facsimile (202) 488-5563, or via e-mail at FCC@BCPIWEB.COM.

66. Comments and reply comments and any other filed documents in this matter may be obtained from Best Copy and Printing, Inc., in person at 445 12th Street, SW., Room CY-B402, Washington, DC 20554, via telephone at (202) 488-5300, via facsimile (202) 488-5563, or via e-mail at FCC@BCPIWEB.COM. The pleadings will be also available for public inspection and copying during regular business hours in the FCC Reference Information Center, Room CY-A257, 445 Twelfth Street, SW., Washington, DC 20554 and through the Commission's Electronic Filing System (ECFS) accessible on the Commission's World Wide Web site, http://www.fcc.gov.

67. Comments and reply comments must include a short and concise summary of the substantive arguments raised in the pleading. Comments and reply comments must also comply with § 1.49 and all other applicable sections of the Commission's rules. All parties are encouraged to utilize a table of contents, and to include the name of the filing party and the date of the filing on each page of their submission. We also strongly encourage that parties track the organization set forth in this NPRM in order to facilitate our internal review process.

68. Commenters who file information that they believe is proprietary may request confidential treatment pursuant to § 0.459 of the Commission's rules. Commenters should file both their original comments for which they request confidentiality and redacted comments, along with their request for confidential treatment. Commenters should not file proprietary information electronically. See Examination of Current Policy Concerning the Treatment of Confidential Information Submitted to the Commission, Report and Order, 13 FCC Rcd 24816 (1998), Order on Reconsideration, 14 FCC Rcd 20128 (1999). Even if the Commission grants confidential treatment, information that does not fall within a specific exemption pursuant to the Freedom of Information Act (FOIA) must be publicly disclosed pursuant to an appropriate request. See 47 CFR 0.461; 5 U.S.C. 552. We note that the Commission may grant requests for confidential treatment either conditionally or unconditionally. As such, we note that the Commission has the discretion to release information on public interest grounds that does fall within the scope of a FOIA exemption.

69. Accordingly, it is ordered that, pursuant to the authority contained in sections 1, 4(i), 4(j), 7(a), 301, 303(c), 303(f), 303(g), 303(r), 303(y), and 308 of the Communications Act of 1934, as amended, 47 U.S.C. 151, 154(i), 154(j), 157(a), 301, 303(c), 303(f), 303(g), 303(r), 303(y), 308, this Further Notice of Proposed Rulemaking is adopted.

70. It is further ordered that the Commission's Consumer and Governmental Affairs Bureau, Reference Information Center shall send a copy of this Further Notice Of Proposed Rulemaking, including the initial regulatory flexibility analysis, to the Chief Counsel for Advocacy of the Small Business Administration, in accordance with section 603(a) of the Regulatory Flexibility Act, 5 U.S.C. 601, et seq. (1981).

71. It is further ordered that the Commission shall send a copy of this Further Notice of Proposed Rulemaking in a report to be sent to Congress and the General Accountability Office pursuant to the Congressional Review Act, see 5 U.S.C. 801(a)(1)(A).

List of Subjects

47 CFR Part 2

Telecommunications.

47 CFR Part 25

Satellites.

Federal Communications Commission.
Marlene H. Dortch,
Secretary.

[FR Doc. E7-16565 Filed 8-21-07; 8:45 am]

BILLING CODE 6712-01-P